DEPARTMENT OF COMMERCE

Foreign-Trade Zones Board

[Order No. 2167]

Designation of New Grantee; Foreign-Trade Zone 30; Salt Lake City, Utah

Pursuant to its authority under the Foreign-Trade Zones Act of June 18, 1934, as amended (19 U.S.C. 81a-81u), the Foreign-Trade Zones Board (the Board) adopts the following Order:

The Foreign-Trade Zones (FTZ) Board (the Board) has considered the application (docketed June 25, 2024) submitted by the Salt Lake City Corporation, grantee of FTZ 30, requesting reissuance of the grant of authority for said zone to the World Trade Center Utah, which has accepted such reissuance subject to approval by the FTZ Board. Upon review, the Board finds that the requirements of the FTZ Act and the Board's regulations are satisfied, and that the proposal is in the public interest.

Therefore, the Board approves the application and recognizes the World Trade Center Utah as the new grantee for Foreign-Trade Zone 30, subject to the FTZ Act and the Board's regulations, including section 400.13.

Dated: October 4, 2024.
Dawn Shackleford,
Executive Director of Trade Agreements Policy & Negotiations, Alternate Chairman, Foreign-Trade Zones Board.

[FR Doc. 2024-23378 Filed 10-8-24; 8:45 am]

BILLING CODE 3510-DS-P